Title 3—

The President

Presidential Determination No. 2000-18 of March 16, 2000

Sanctions on India

Memorandum for the Secretary of State

Pursuant to the authority vested in me as President of the United States, including under title IX of the Department of Defense Appropriations Act, 2000 (Public Law 106-79), I hereby waive the sanctions contained in sections 101 and 102 of the Arms Export Control Act, section 620E(e) of the Foreign Assistance Act of 1961, and section 2(b)(4) of the Export-Import Bank Act of 1945:

With respect to India, insofar as such sanctions would otherwise apply to assistance to the South Asia Regional Initiative/Energy; the Presidential Initiative on Internet for Economic Development; the Financial Institution Reform and Expansion program; and the United States Educational Foundation in India Environmental Exchange.

You are hereby authorized and directed to report this determination to the Congress and to arrange for its publication in the Federal Register.

wj

THE WHITE HOUSE,

Washington, March 16, 2000.

[FR Doc. 00-7748

Filed 03-27-00; 8:45 am]

Billing code 4710-10-M